NUCLEAR REGULATORY COMMISSION

[NRC-2015-0001]

Sunshine Act Meeting

DATE: September 28, October 5, 12, 19, 26, November 2, 2015.

PLACE: Commissioners' Conference Room, 11555 Rockville Pike, Rockville, Maryland.

STATUS: Public and Closed.

Week of September 21, 2015

Thursday, September 24, 2015

9:55 a.m. Affirmation Session (Public Meeting) (Tentative), Tennessee Valley Authority (Watts Bar Unit 2)—Petition for Review of LBP-15-14.

This meeting will be webcast live at the Web address— http://www.nrc.gov/.

ADDITIONAL INFORMATION By a vote of 4-0 on September 22, 2015 the Commission determined pursuant to U.S.C. 552b(e) and 9.107(a) of the Commission's rules that the above referenced Affirmation Session be held with less than one week notice to the public. The meeting is scheduled on September 24, 2015.

Week of September 28, 2015—Tentative

Monday, September 28, 2015

1:30 p.m. NRC All Employees Meeting (Public Meeting), Marriott Bethesda North Hotel, 5701 Marinelli Road, Rockville, MD 20852.

Thursday, October 1, 2015

9:00 a.m. Strategic Programmatic Overview of the Decommissioning and Low-Level Waste and Spent Fuel Storage and Transportation Business Lines (Public Meeting), (Contact: Damaris Marcano: 301-415-7328).

This meeting will be webcast live at the Web address— http://www.nrc.gov/.

Week of October 5, 2015—Tentative

There are no meetings scheduled for the week of October 5, 2015.

Week of October 12, 2015—Tentative

There are no meetings scheduled for the week of October 12, 2015.

Week of October 19, 2015—Tentative

Monday, October 19, 2015

9:30 a.m. Briefing on Security Issues (Closed-Ex. 1).

Wednesday, October 21, 2015

9:00 a.m. Joint Meeting of the Federal Energy Regulatory Commission (FERC) and the Nuclear Regulatory Commission (NRC) (Part 1) (Public Meeting), To be held at FERC Headquarters, 888 First Street NE., Washington, DC, (Contact: Tania Martinez-Navedo: 301-415-6561).

This meeting will be webcast live at the Web address— www.ferc.gov

11:20 a.m. Joint Meeting of the Federal Energy Regulatory Commission (FERC) and the Nuclear Regulatory Commission (NRC) (Part 2) (Closed—Ex. 1 & 3), To be held at FERC Headquarters, 888 First Street NE., Washington, DC.

Week of October 26, 2015—Tentative

There are no meetings scheduled for the week of October 26, 2015.

Week of November 2, 2015—Tentative

There are no meetings scheduled for the week of November 2, 2015

The schedule for Commission meetings is subject to change on short notice. For more information or to verify the status of meetings, contact Glenn Ellmers at 301-415-0442 or via email at Glenn.Ellmers@nrc.gov.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: September 23, 2015.
Glenn Ellmers,
Policy Coordinator, Office of the Secretary.

[FR Doc. 2015-24612 Filed 9-24-15; 11:15 am]

BILLING CODE 7590-01-P